DEPARTMENT OF COMMERCE

Foreign-Trade Zones Board

[Order No. 1169]

Expansion of Foreign-Trade Zone 54, Clinton County, NY

Pursuant to its authority under the Foreign-Trade Zones Act of June 18, 1934, as amended (19 U.S.C. 81a-81u), the Foreign-Trade Zones Board (the Board) adopts the following Order:

Whereas, the County of Clinton, New York, grantee of Foreign-Trade Zone 54, submitted an application to the Board for authority to expand FTZ 54 to include a site at the former Plattsburgh Air Force Base located in Plattsburgh, New York (Site 4), within the Champlain Customs port of entry (FTZ Docket 57-2000; filed 11/13/00);

Whereas, notice inviting public comment was given in the Federal Register (65 FR 70693, 11/27/00) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 54 is approved, subject to the Act and the Board's regulations, including Section 400.28, and further subject to the Board's standard 2,000-acre activation limit.

Signed at Washington, DC, this 29th day of May 2001.
Faryar Shirzad,
Assistant Secretary of Commerce for Import Administration, Alternate Chairman, Foreign-Trade Zones Board.
Dennis Puccinelli,
Executive Secretary.

[FR Doc. 01-14796 Filed 6-11-01; 8:45 am]

BILLING CODE 3510-DS-P